DEPARTMENT OF THE INTERIOR

Fish and Wildlife Service

[FWS-R1-R-2010-N083; 1265-0000-10137-S3]

Willapa National Wildlife Refuge, Pacific County, WA

AGENCY: Fish and Wildlife Service, Interior.

ACTION: Notice of availability: Draft comprehensive conservation plan and draft environmental impact statement; request for comments.

SUMMARY: We, the U.S. Fish and Wildlife Service (Service), announce the availability of our draft comprehensive conservation plan and draft environmental impact statement (Draft CCP/EIS) for the Willapa National Wildlife Refuge (refuge) for public review and comment. In the Draft CCP/EIS, we described our alternatives, including our preferred alternative, for managing the refuge for 15 years following approval of the final CCP.

DATES: To ensure consideration, we must receive your written comments by March 7, 2011.

ADDRESSES: You may submit comments, request a copy of the Draft CCP/EIS, or request more information by any of the following methods.

E-mail: FW1PlanningComments@fws.gov. Include “Willapa CCP” in the subject line of the message.

U.S. Mail: Charlie Stenvall, Project Leader, Willapa National Wildlife Refuge Complex, 3888 SR 101, Ilwaco, WA 98624.

Web site: http://www.fws.gov/willapa; select “Contact Us.”

FOR FURTHER INFORMATION CONTACT: Charlie Stenvall, Project Leader, (360) 484-3482.

SUPPLEMENTARY INFORMATION:

Introduction

The Willapa National Wildlife Refuge was established in 1937 to protect migrating and wintering populations of Brant, waterfowl, shorebirds, and other migratory birds, and for conservation purposes. The refuge encompasses approximately 16,000 acres of tidelands, temperate rainforest, ocean beaches, sand dunes, rivers, and small streams. It also preserves several rare remnants of old growth coastal cedar forest, and habitat for spawning wild salmon, hundreds of thousands of migrating shorebirds, and threatened and endangered species such as the Western snowy plover and Marbled murrelet. This notice announces the availability of the refuge's Draft CCP/EIS.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management and conservation, legal mandates, and our policies. In addition to outlining broad management direction for conserving wildlife and their habitats, CCPs identify wildlife-dependent recreational opportunities available to the public, including opportunities for hunting, fishing, wildlife observation and photography, and environmental education and interpretation. We will review and update the CCP at least every 15 years in accordance with the Refuge Administration Act.

Public Outreach

In March 2008, we distributed Planning Update 1 to our project mailing list and public outlets located near the refuge. We announced the initiation of our planning process, provided background information on the refuge, requested comments on refuge management issues, and invited the public to open house meetings in the update. We also announced the public open house meetings in a press release and on Service Web sites. We held the meetings on March 25 and 26, 2008, in South Bend and Ilwaco, Washington, respectively, to obtain comments on refuge management issues. In April 2008 we published a Notice of Intent in the Federal Register (73 FR 19238; April 9, 2008), announcing our intention to complete a CCP/EIS and inviting public comments. We distributed Planning Updates 2 and 3 in August 2008 and July 2009, respectively. In the updates we summarized public comments and management goals, and displayed our draft preliminary alternatives.

Draft CCP Alternatives We Are Considering

We are considering three CCP alternatives for managing the refuge; brief descriptions follow.

Alternative 1 (No Action)

Under Alternative 1 the current refuge management programs and operations would not change. The refuge would continue to maintain, and where feasible restore, habitats, including forest stand improvements, wetlands enhancements, and beach dune enhancements. Habitat improvements for imperiled species, State or federally listed as threatened or endangered, would continue. Existing public uses, including hunting, fishing, wildlife observation, photography, interpretation, environmental education, and boating and camping would continue.

Alternative 2 (Preferred Alternative)

Under Alternative 2, the Service's preferred alternative, current wildlife and habitat management programs would continue, plus this alternative includes the highest level of refuge habitat improvement of the three alternatives. Intensively managed pastures and impoundments would be restored to historic estuarine habitats, and approximately 749 acres of open water, intertidal flats, and salt marsh would be created. On the refuge's Leadbetter Point Unit, a predator management program would be implemented to manage avian and mammalian predators and increase the Western snowy plover population to meet recovery plan goals for the species. Grassland restoration on up to 33 acres would include establishment of the early-blue violet; this host plant would serve the future reintroduction of the endangered Oregon silverspot butterfly.

Improvements to the wildlife-dependent public use program would include: A new interpretive trail and wildlife observation deck along the South Bay, connected to the proposed visitor-center/office/maintenance facility to be located on the Tarlett Unit. Waterfowl hunting opportunities, in accordance with the State's season, would expand to include approximately 6,058 acres after the proposed estuarine restoration is completed. A boat launch access point (car-top boats only) would be developed to access the South Bay. An expanded, special-permit-only elk hunt would occur on the Leadbetter Point Unit. Elk and deer hunting would expand in South Bay units in accordance with the State's seasons.

An expansion of the refuge's land acquisition boundary is proposed to include 1,908 acres in the Nemah and Naselle areas; 561 acres in South Bay; and 4,334 acres in the East Hills. We would also consider divesting the Cape Shoalwater and Wheaton properties from the refuge.

Alternative 3

Under Alternative 3, intensively managed pastures and impoundments would be restored to historic estuarine habitats, creating approximately 429 acres of open water, intertidal flats, and salt marsh on the refuge. The proposed estuarine restoration project would occur on the Lewis and Porter Point units only. Approximately 30 acres of managed freshwater wetlands would remain on the Riekkola and Tarlatt units. Predator management for protection of the threatened Western snowy plover on the Leadbetter Point Unit would occur on an as needed basis to control avian predators only. Grassland restoration on up to 33 acres would include the successful establishment of the early-blue violet; this host plant would serve the future reintroduction of the endangered Oregon silverspot butterfly.

Wildlife-dependent public use activities under Alternative 3 would include expanded waterfowl hunting in accordance with the State's season, after estuarine restoration efforts are completed. A new interpretive trail and wildlife observation deck along the South Bay would be connected to the proposed visitor-center/office/maintenance facility to be located on the Tarlett Unit. Expansion of hunting opportunities would occur at the Leadbetter Point Unit to include a permit-only regulated elk hunt. Elk and deer hunting opportunities would occur in the South Bay units in accordance with the State's seasons.

An expanded land acquisition boundary is proposed to include: 561 acres in South Bay and 4,334 acres in the East Hills. We would also consider divesting the Cape Shoalwater and Wheaton properties from the refuge.

Public Availability of Documents

You can request copies of the Draft CCP/EIS on CD-ROM from Charlie Stenvall, Project Leader, Willapa National Wildlife Refuge, 3888 SR 101, Ilwaco, WA 98624; phone (360) 484-3482. The Draft CCP/EIS will also be available for viewing and downloading on the Internet at http://www.fws.gov/lc. Printed copies of the Draft CCP/EIS may be reviewed at the refuge and at the following libraries.

• Ilwaco Timberland Regional Library, 158 1st Ave. North, Ilwaco, WA 98624.

• South Bend Timberland Library, West 1st and Pacific, South Bend, WA 98586.

• Ocean Park Timberland Library, 1308 256th Pl., Ocean Park, WA 98640.

• Astoria Public Library, 450 10th St., Astoria, OR 97103.

Next Steps

After this comment period ends, we will analyze the comments and address them in the form of a final CCP/EIS.

Public Availability of Comments

Before including your address, phone number, e-mail address, or other personal identifying information in your comment, you should be aware that your entire comment—including your personal identifying information—may be made publicly available at any time. While you can ask us in your comment to withhold your personal identifying information from public review, we cannot guarantee we will be able to do so.

Dated: January 6, 2011.
David Patte,
Acting Regional Director, Region 1, Portland, Oregon.

[FR Doc. 2011-887 Filed 1-20-11; 8:45 am]

BILLING CODE 4310-55-P